DEPARTMENT OF EDUCATION

Applications for New Awards; Transition Programs for Students With Intellectual Disabilities Into Higher Education

AGENCY: Office of Postsecondary Education, Department of Education.

ACTION: Notice.

SUMMARY: The Department of Education (Department) is issuing a notice inviting applications (NIA) for new awards for fiscal year (FY) 2020 for the Transition Programs for Students with Intellectual Disabilities into Higher Education (TPSID)—Model Comprehensive Transition and Postsecondary Programs for Students with Intellectual Disabilities Program, Catalog of Federal Domestic Assistance (CFDA) number 84.407A. This notice relates to the approved information collection under OMB control number 1840-0006.

DATES: Applications Available: May 11, 2020.

Deadline for Transmittal of Applications: July 10, 2020.

Deadline for Intergovernmental Review: September 8, 2020.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Shedita Alston, U.S. Department of Education, 400 Maryland Avenue SW, Room 260-24, Washington, DC 20202-4260. Telephone: (202) 453-7090. Email: Shedita.Alston@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The purpose of the TPSID program is to support model demonstration programs that promote the successful transition of students with intellectual disabilities into higher education and to enable institutions of higher education (IHEs), or consortia of IHEs, to create or expand high-quality, inclusive model comprehensive transition and postsecondary programs for students with intellectual disabilities.

Background: Historically, in this country, the education, employment, and independent living outcomes for individuals with intellectual disabilities have been unpromising. Like their non-disabled peers, individuals with intellectual disabilities desire to live as self-reliant, valued contributors to their communities. However, individuals with intellectual disabilities have a more difficult time accessing high-quality postsecondary education and training designed to meet their unique needs, often leading to lower quality outcomes, such as higher unemployment, lower wages, and less independence. Over time, IHEs have improved services for students with intellectual disabilities, including more frequently offering specially designed instruction in inclusive settings to support improved academic, functional, and social outcomes, which, in turn, lead to improved employment and independent living outcomes.¹

The Department is particularly interested in leveraging the resources of the TPSID program to promote competitive integrated employment and independent living outcomes for individuals with intellectual disabilities. Specifically, we believe that this program and its grantees present a unique opportunity to expand the availability of high-quality transition and postsecondary education programs, increasing the number of individuals with intellectual disabilities who are academically, functionally, and socially prepared to obtain and retain competitive employment in integrated settings. Further, we believe that those same skills and opportunities will prepare them to live independently as full and active members of their communities. To that end, this notice includes three competitive preference priorities that we believe will help applicants focus on the ways in which their proposed projects will lead to lasting, long-term benefits for individuals with intellectual disabilities, including those in the most under-resourced communities.

Eligible IHEs or consortia of eligible IHEs that are interested in applying for grants under this program must propose to create or expand high-quality, inclusive model comprehensive transition and postsecondary (CTP) programs for students with intellectual disabilities.

TPSID program participants must meet the statutory definition of a “student with an intellectual disability,” participate on not less than a half-time basis as determined by the IHE, and be socially and academically integrated with their non-disabled peers.

TPSID projects use structured academic and advising curricula, coupled with person-centered plans of study (developed for each individual project participant), as the basis for building needed skills and competencies for each participant. As TPSID program projects provide support and services to their project participants, the projects concurrently monitor and assess the progress of their participants. Incorporating adjustments to such support as needed helps to ensure that each TPSID program participant earns a meaningful credential and reaches his or her employment or career goals.

Priorities: This notice contains one absolute priority and three competitive preference priorities. In accordance with 34 CFR 75.105(b)(2)(v), the absolute priority is from allowable activities specified in the statute (see section 767 of the Higher Education Act of 1965, as amended (HEA), 20 U.S.C. 1140g). Competitive Preference Priorities 1 and 2 are from the Secretary's Final Supplemental Priorities and Definitions for Discretionary Grant Programs, published in the Federal Register on March 2, 2018 (83 FR 9096) (Supplemental Priorities). Competitive Preference Priority 3 is from the notice of final priority published in the Federal Register on November 27, 2019 (84 FR 65300) (Opportunity Zones NFP).

Absolute Priority: For FY 2020 and any subsequent year in which we make awards from the list of unfunded applications from this competition, this priority is an absolute priority. Under 34 CFR 75.105(c)(3), we consider only applications that meet this priority.

This priority is:

A grant recipient must use grant funds to establish a model comprehensive transition and postsecondary program for students with intellectual disabilities that—

(1) Serves students with intellectual disabilities;

(2) Provides individual supports and services for the academic and social inclusion of students with intellectual disabilities in academic courses, extracurricular activities, and other aspects of the IHE's regular postsecondary program;

(3) Provides a focus on academic enrichment, socialization, independent living skills, including self-advocacy, and integrated work experiences and career skills that lead to gainful employment;

(4) Integrates person-centered planning in the development of the course of study for each student with an intellectual disability participating in the model program;

(5) Participates with the coordinating center established under section 777(b) of the HEA in the evaluation of the components of the model program;

(6) Partners with one or more local educational agencies to support students with intellectual disabilities participating in the model program who are still eligible for special education and related services under the Individuals with Disabilities Education Act (IDEA), including the use of funds available under part B of IDEA to support the participation of such students in the model program;

(7) Plans for the sustainability of the model program after the end of the grant period; and

(8) Creates and offers a meaningful credential for students with intellectual disabilities upon the completion of the model program.

Competitive Preference Priorities: For FY 2020 and any subsequent year in which we make awards from the list of unfunded applications from this competition, these priorities are competitive preference priorities. Under 34 CFR 75.105(c)(2)(i), we award up to an additional five points to an application, depending on how well the application meets Competitive Preference Priority 1; up to an additional five points to an application, depending on how well the application meets Competitive Preference Priority 2; and an additional one point to an application that meets Competitive Preference Priority 3. Applicants may respond to one or more of these priorities, for a total of up to 11 additional points.

These priorities are:

Competitive Preference Priority 1—Meeting the Unique Needs of Students and Children with Disabilities and/or Those with Unique Gifts and Talents (up to 5 points).

Projects that are designed to address ensuring children or students with disabilities (as defined in this notice) are offered the opportunity to meet challenging objectives and receive educational programs that are both meaningful and appropriately ambitious in light of each child's or student's circumstances by improving development of skills leading to postsecondary education, competitive integrated employment, or independent living.

Competitive Preference Priority 2—Fostering Knowledge and Promoting the Development of Skills That Prepare Students To Be Informed, Thoughtful, and Productive Individuals and Citizens (up to 5 points).

Projects that are designed to address one of the following priority areas:

(a) Supporting projects likely to improve student academic performance and better prepare students for employment, responsible citizenship, and fulfilling lives, including by preparing children or students to develop problem-solving skills.

(b) Supporting instruction in time management, job-seeking, personal organization, public and interpersonal communication, or other practical skills needed for successful career outcomes.

Competitive Preference Priority 3—Spurring Investment in Qualified Opportunity Zones (1 point).

Under this priority, an applicant must demonstrate that the area in which the applicant proposes to provide services overlaps with a Qualified Opportunity Zone, as designated by the Secretary of the Treasury under section 1400Z-1 of the Internal Revenue Code (IRC). An applicant must—

(a) Provide the census tract number of the Qualified Opportunity Zone(s) in which it proposes to provide services; and

(b) Describe how the applicant will provide services in the Qualified Opportunity Zone(s).

Definitions: The following definitions are from section 760 of the HEA (20 U.S.C. 1140) and from the Supplemental Priorities and apply to the priorities in this notice:

Comprehensive transition and postsecondary program for students with intellectual disabilities means a degree, certificate, or nondegree program that—

(A) Is offered by an IHE;

(B) Is designed to support students with intellectual disabilities who are seeking to continue academic, career and technical, and independent living instruction at an IHE in order to prepare for gainful employment;

(C) Includes an advising and curriculum structure;

(D) Requires students with intellectual disabilities to participate on not less than a half-time basis as determined by the institution, with such participation focusing on academic components, and occurring through one or more of the following activities:

(i) Regular enrollment in credit-bearing courses with nondisabled students offered by the institution.

(ii) Auditing or participating in courses with nondisabled students offered by the institution for which the student does not receive regular academic credit.

(iii) Enrollment in noncredit-bearing, nondegree courses with nondisabled students.

(iv) Participation in internships or work-based training in settings with nondisabled individuals; and

(E) Requires students with intellectual disabilities to be socially and academically integrated with non-disabled students to the maximum extent possible.

Student with an intellectual disability means a student—

(A) With a cognitive impairment, characterized by significant limitations in—

(i) Intellectual and cognitive functioning; and

(ii) Adaptive behavior as expressed in conceptual, social, and practical adaptive skills; and

(B) Who is currently, or was formerly, eligible for a free appropriate public education under the IDEA.

Children or students with disabilities means children with disabilities as defined in the IDEA or individuals defined as having a disability under Section 504 of the Rehabilitation Act of 1973 (Section 504) (or children or students who are eligible under both laws).

Program Authority: Title VII, part D, subpart 2 of the HEA (20 U.S.C. 1140f, et seq.).

Applicable Regulations: (a) The Education Department General Administrative Regulations (EDGAR) in 34 CFR parts 75, 77, 79, 82, 84, 86, 97, 98, and 99. (b) The Office of Management and Budget Guidelines to Agencies on Governmentwide Debarment and Suspension (Nonprocurement) in 2 CFR 180, as adopted and amended as regulations of the Department in 2 CFR part 3485. (c) The Uniform Administrative Requirements, Cost Principles, and Audit Requirements for Federal Awards in 2 CFR part 200, as adopted in 2 CFR part 3474. (d) The Supplemental Priorities. (e) The Opportunity Zones NFP.

II. Award Information

Type of Award: Discretionary grants.

Estimated Available Funds: $9,700,000.

Contingent upon the availability of funds and the quality of applications, we may make additional awards in subsequent fiscal years from the list of unfunded applications from this competition.

Estimated Range of Awards: $100,000-$500,000.

Estimated Average Size of Awards: $388,000.

Maximum Awards: We will not make an award exceeding $500,000 for a single budget period of 12 months.

Estimated Number of Awards: 25.

Note: The Department is not bound by any estimates in this notice.

Project Period: Up to 60 months.

III. Eligibility Information

1. Eligible Applicants: IHEs, as defined in section 101 of the HEA, or consortia of IHEs are eligible to apply for funding.

2. Cost Sharing or Matching: The grantee must provide, from non-Federal funds, a matching contribution equal to at least 25 percent of the cost of the project.

3. Subgrantees: A grantee under this competition may not award subgrants to entities to directly carry out project activities described in its application.

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

2. Intergovernmental Review: This program is subject to Executive Order 12372 and the regulations in 34 CFR part 79. Information about Intergovernmental Review of Federal Programs under Executive Order 12372 is in the application package for this program.

3. Funding Restrictions: We reference regulations outlining funding restrictions in the Applicable Regulations section of this notice.

4. Recommended Page Limit: The application narrative is where you, the applicant, address the selection criteria that reviewers use to evaluate your application. We recommend that you (1) limit the application narrative to no more than 58 pages and (2) use the following standards:

• A “page” is 8.5″ x 11″, on one side only, with 1″ margins at the top, bottom, and both sides.

• Double-space (no more than three lines per vertical inch) all text in the application narrative, including titles, headings, footnotes, quotations, references, and captions, as well as all text in charts, tables, figures, and graphs.

• Use a font that is either 12 point or larger, and no smaller than 10 pitch (characters per inch).

• Use one of the following fonts: Times New Roman, Courier, Courier New, or Arial.

The recommended page limit applies to the application narrative. However, the recommended page limit does not apply to the Application for Federal Assistance form (SF-424); the ED SF-424 Supplement form; the Budget Information—Non-Construction Programs form (ED 524); the assurances and certifications; or the one-page project abstract, the program profile form, and supporting budget narrative. Please include a separate heading when responding to the absolute priority and each of the competitive preference priorities.

V. Application Review Information

1. Selection Criteria: The following selection criteria for this program are from 34 CFR 75.210. The points assigned to each criterion are indicated in parentheses. Applicants may earn up to a total of 100 points for the selection criteria.

(a) Need for project (up to 10 points).

(1) The Secretary considers the need for the proposed project.

(2) In determining the need for the proposed project, the Secretary considers the following factors:

(i) The magnitude or severity of the problem to be addressed by the proposed project.

(ii) The magnitude of the need for the services to be provided or the activities to be carried out by the proposed project.

(iii) The extent to which specific gaps or weaknesses in services, infrastructure, or opportunities have been identified and will be addressed by the proposed project, including the nature and magnitude of those gaps or weaknesses.

(b) Significance (up to 15 points).

(1) The Secretary considers the significance of the proposed project.

(2) In determining the significance of the proposed project, the Secretary considers the following factors:

(i) The extent to which the proposed project is likely to build local capacity to provide, improve, or expand services that address the needs of the target population.

(ii) The likely utility of the products (such as information, materials, processes, or techniques) that will result from the proposed project, including the potential for their being used effectively in a variety of other settings.

(iii) The potential replicability of the proposed project or strategies, including, as appropriate, the potential for implementation in a variety of settings.

(c) Quality of the project design (up to 20 points).

(1) The Secretary considers the quality of the design of the proposed project.

(2) In determining the quality of the design of the proposed project, the Secretary considers the following factors:

(i) The extent to which the design of the proposed project is appropriate to, and will successfully address, the needs of the target population or other identified needs.

(ii) The extent to which the design of the proposed project includes a thorough, high-quality review of the relevant literature, a high-quality plan for project implementation, and the use of appropriate methodological tools to ensure successful achievement of project objectives.

(iii) The extent to which the proposed project is designed to build capacity and yield results that will extend beyond the period of Federal financial assistance.

(iv) The extent to which the design of the proposed project reflects up-to-date knowledge from research and effective practice.

(d) Quality of project services (up to 15 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the services to be provided by the proposed project are appropriate to the needs of the intended recipients or beneficiaries of those services.

(ii) The likelihood that the services to be provided by the proposed project will lead to improvements in the skills necessary to gain employment or build capacity for independent living.

(e) Quality of project personnel (up to 10 points).

(1) The Secretary considers the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(f) Adequacy of resources (up to 15 points).

(1) The Secretary considers the adequacy of resources for the proposed project.

(2) In determining the adequacy of resources for the proposed project, the Secretary considers the following factors:

(i) The adequacy of support, including facilities, equipment, supplies, and other resources, from the applicant organization or the lead applicant organization.

(ii) The extent to which the budget is adequate to support the proposed project.

(iii) The extent to which the costs are reasonable in relation to the number of persons to be served and to the anticipated results and benefits.

(iv) The potential for continued support of the project after Federal funding ends, including, as appropriate, the demonstrated commitment of appropriate entities to such support.

(g) Quality of the project evaluation (up to 15 points).

(1) The Secretary considers the quality of the evaluation to be conducted of the proposed project.

(2) In determining the quality of the evaluation, the Secretary considers the following factors:

(i) The extent to which the methods of evaluation provide for examining the effectiveness of project implementation strategies.

(ii) The extent to which the methods of evaluation include the use of objective performance measures that are clearly related to the intended outcomes of the project and will produce quantitative and qualitative data to the extent possible.

(iii) The extent to which the methods of evaluation will provide performance feedback and permit periodic assessment of progress toward achieving intended outcomes.

(iv) The extent to which the evaluation will provide guidance about effective strategies suitable for replication or testing in other settings.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

If a tie remains after applying any additional points from the competitive preference priorities, we will apply section 767(c)(1) and (2) of the HEA in support of our intent to ensure an equitable geographic distribution of grants, and provide grant funds to projects that will serve areas that are underserved by programs of this type.

3. Risk Assessment and Specific Conditions: Consistent with 2 CFR 200.205, before awarding grants under this program, the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements, please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measure: The Secretary has established the following key performance measure for assessing the effectiveness of the TPSID program: The percentage of students with intellectual disabilities who are enrolled in programs funded under TPSID who complete the programs and obtain a meaningful credential, as defined by the TPSID Program Coordinating Center established under section 777(b) of HEA and approved by the Department.

Additionally, grantees will be required to participate in evaluation activities conducted by the coordinating center established under section 777(b) of the HEA. As part of these reports and evaluation activities, grantees will be expected to work closely with the coordinating center to develop performance measures most closely aligned with activities that promote the successful transition of students with disabilities into higher education. Grantees will be asked to provide to the coordinating center information such as: (1) A description of the population of students targeted to receive assistance under the grant; (2) evidence of academic and social inclusion of students with intellectual disabilities in academic courses, extracurricular activities, and other aspects of the IHE's regular postsecondary program; (3) a description of how the model program addresses individualized student needs and improvement through person-centered planning, academic enrichment, socialization, independent living skills, and integrated work experiences and career skills; (4) a description of how the model program's partnership with one or more LEAs supports students with intellectual disabilities participating in the model program who are still eligible for funds under the IDEA; (5) plans for program sustainability beyond the grant period; (6) a detailed description of the credential offered to students with intellectual disabilities; (7) data regarding the change in enrollment of students with intellectual disabilities at the IHE; (8) data regarding persistence and completion of students with intellectual disabilities; (9) a detailed description of measurable goals for the individual project, planned methods of achieving those goals, and progress towards meeting the goals; and (10) as applicable, a description of how the grantee continues to address Competitive Preference Priorities 1 and 2.

6. Continuation Awards: In making a continuation award under 34 CFR 75.253, the Secretary considers, among other things: whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site, you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Robert L. King,
Assistant Secretary for Postsecondary Education.

[FR Doc. 2020-10022 Filed 5-8-20; 8:45 am]

BILLING CODE 4000-01-P